NUCLEAR REGULATORY COMMISSION

10 CFR Part 1

RIN 3150-AH79

Statement of Organization and General Information

AGENCY: Nuclear Regulatory Commission.

ACTION: Final rule.

SUMMARY: The Nuclear Regulatory Commission (NRC) is revising its regulations to reflect the renaming of the Office of the Chief Information Officer as the Office of Information Services, the establishment of the Office of Nuclear Security and Incident Response, the transfer of the responsibility for the allegations program from the Office of Nuclear Reactor Regulation to the Office of Enforcement, and other minor changes. These amendments are necessary to inform the public of administrative changes within the NRC.

EFFECTIVE DATE: November 16, 2005.

FOR FURTHER INFORMATION CONTACT: Alzonia Shepard, Senior Regulations Specialist, Rules and Directives Branch, Division of Administrative Services, Office of Administration, U.S. Nuclear Regulatory Commission, Washington, DC 20555-0001, Telephone (301) 415-6864, e-mail aws1@nrc.gov.

SUPPLEMENTARY INFORMATION: On January 6, 2005, the NRC announced a realignment of functions of the Office of the Executive Director for Operations. In the realignment, the NRC renamed the Office of the Chief Information Officer as the Office of Information Services. On April 7, 2002, the Commission established the Office of Nuclear Security and Incident Response (NSIR). These amendments include a description of the duties of NSIR. These amendments also reflect the transfer of the allegations program from the Office of Nuclear Reactor Regulation to the Office of Enforcement, the replacement of the reference to the Small Business Regulatory Enforcement Act with the Congressional Review Act, corrections to the addresses for Regions II and III, as well as other minor changes.

Because these amendments constitute minor administrative changes to the regulations concerning agency organization, the notice and comment provisions of the Administrative Procedure Act do not apply under 5 U.S.C. 553(b)(A). The amendments are effective upon publication in the Federal Register. Good cause exists under 5 U.S.C 553(d) to dispense with the usual 30-day delay in the effective date of the final rule, because the amendments are of a minor and administrative nature dealing with changes to certain CFR sections, which do not require action by any person or entity regulated by the NRC. Further, the final rule does not change the substantive responsibilities of any person or entity regulated by the NRC.

Environmental Impact: Categorical Exclusion

The NRC has determined that this final rule is the type of action described in categorical exclusion 10 CFR 51.22(c)(2). Therefore, neither an environmental impact statement nor an environmental assessment has been prepared for this final rule.

Paperwork Reduction Act Statement

This final rule does not contain information collection requirements and therefore, is not subject to the Paperwork Reduction Act of 1995 (44 U.S.C. 3501 et seq.).

List of Subjects in 10 CFR Part 1

Organization and functions (Government Agencies).

For the reasons set forth in the preamble and under the authority of the Atomic Energy Act of 1954, as amended; the Energy Reorganization Act of 1974, as amended; and 5 U.S.C. 552 and 553, the NRC is adopting the following amendments to 10 CFR Chapter 1.

CHAPTER 1 [NOMENCLATURE CHANGE]

1. In 10 CFR Chapter 1, revise all references to the phrase “Office of the Chief Information Officer” to read “Office of Information Services.”

PART 1—STATEMENT OF ORGANIZATION AND GENERAL INFORMATION

2. The authority citation for Part 1 continues to read as follows:

Authority: Secs. 23, 161, 68 Stat. 925, 948, as amended (42 U.S.C. 2033, 2201); sec. 29, Pub. L. 85-256, 71 Stat. 579, Pub. L. 95-209, 91 Stat. 1483 (42 U.S.C. 2039); sec. 191, Pub. L. 87-615, 76 Stat. 409 (42 U.S.C. 2241); Secs. 201, 203, 204, 205, 209, 88 Stat. 1242, 1244, 1245, 1246, 1248, as amended (42 U.S.C. 5841, 5843, 5844, 5845, 5849); 5 U.S.C. 552, 553; Reorganization Plan No. 1 of 1980, 45 FR 40561, June 16, 1980.

3. In § 1.3, paragraph (c) is revised to read as follows:

§ 1.3 Sources of additional information.

* * * * *

(c) Information regarding the availability of NRC records under the Freedom of Information Act and Privacy Act of 1974 may be obtained from the Information and Records Services Division, Office of Information Services. NRC's regulations are published in the Federal Register and codified in Title 10, Chapter 1, of the Code of Federal Regulations. They may be viewed electronically at the NRC Web site, http://www.nrc.gov/reading-rm/doc-collections/cfr/. Final opinions made in the adjudication of cases are published in “Nuclear Regulatory Commission Issuances,” and are available on a subscription basis from the National Technical Information Service, 5285 Port Royal Road, Springfield, VA 22161.

4. In § 1.5, paragraphs (b)(2) and (b)(3) are revised to read as follows:

§ 1.5 Location of principal offices and regional offices.

* * * * *

(b) * * *

(2) Region II, USNRC, Sam Nunn Atlanta Federal Center, 61 Forsyth Street, SW., Suite 23 T85, Atlanta, GA 30303-8931.

(3) Region III, USNRC, 2443 Warrenville Road, Suite 210, Lisle, IL 60532-4351.

* * * * *

5. In § 1.32, paragraph (b) is revised to read as follows:

§ 1.32 Office of the Executive Director for Operations.

* * * * *

(b) The EDO supervises and coordinates policy development and operational activities in the following line offices; the Office of Nuclear Reactor Regulation, the Office of Nuclear Material Safety and Safeguards, the Office of Nuclear Regulatory Research, the Office of Nuclear Security and Incident Response, and the NRC Regional Offices; and the following staff offices: The Office of Enforcement, the Office of Administration, the Office of Information Services, the Office of Investigations, the Office of Small Business and Civil Rights, the Office of Human Resources, the Office of State and Tribal Programs, and other organizational units as shall be assigned by the Commission. The EDO is also responsible for implementing the Commission's policy directives pertaining to these offices.

* * * * *

6. Section 1.33 is revised to read as follows:

§ 1.33 Office of Enforcement.

The Office of Enforcement—

(a) Develops policies and programs for enforcement of NRC requirements;

(b) Manages major enforcement action;

(c) Assesses the effectiveness and uniformity of Regional enforcement actions; and

(d) Manages the NRC allegation program.

7. In § 1.34, paragraph (d) is revised to read as follows:

§ 1.34 Office of Administration.

* * * * *

(d) Develops and implements policies and procedures for the review and publication of NRC rulemakings, and ensures compliance with the Regulatory Flexibility Act and the Congressional Review Act, manages the NRC Management Directives Program, and provides translation services.

8. Section 1.35 is revised to read as follows:

§ 1.35 Office of Information Services.

The Office of Information Services—

(a) Plans, directs, and oversees the NRC's information resources, including technology infrastructure and delivery of information management services, to meet the mission and goals of the agency;

(b) Provides principal advice to the Chairman to ensure that information technology (IT) is acquired and information resources across the agency are managed in a manner consistent with Federal information resources management (IRM) laws and regulations;

(c) Assists senior management in recognizing where information technology can add value while improving NRC operations and service delivery;

(d) Directs the implementation of a sound and integrated IT architecture to achieve NRC's strategic and IRM goals;

(e) Monitors and evaluates the performance of information technology and information management programs based on applicable performance measures and assesses the adequacy of IRM skills of the agency;

(f) Provides guidance and oversight for the selection, control and evaluation of information technology investments; and

(g) Provides oversight and quality assurance for the design and operation of the Licensing Support Network (LSN) services and for the completeness and integrity of the LSN database, ensures that the LSN meets the requirements of 10 CFR part 2, subpart J, concerning the use of the LSN in the Commission's high-level waste licensing proceedings, and provides technical oversight of DOE in the design, development, and operation of the LSN.

9. In § 1.41, the section heading and the introductory text are revised to read as follows:

§ 1.41 Office of State and Tribal Programs.

The Office of State and Tribal Programs—

* * * * *

10. Section 1.43 is revised to read as follows:

§ 1.43 Office of Nuclear Reactor Regulation.

The Office of Nuclear Reactor Regulation—

(a) Develops, promulgates and implements regulations and develops and implements policies, programs, and procedures for all aspects of licensing, inspection, and safeguarding of—

(1) Manufacturing, production, and utilization facilities, except for those concerning fuel reprocessing plants and isotopic enrichment plants;

(2) Receipt, possession, and ownership of source, byproduct, and special nuclear material used or produced at facilities licensed under 10 CFR part 50;

(3) Operators of such facilities;

(4) Emergency preparedness at such facilities; and

(5) Contractors and suppliers of such facilities.

(b) Identifies and takes action regarding conditions and licensee performance that may adversely affect public health and safety, the environment, or the safeguarding of nuclear reactor facilities;

(c) Assesses and recommends or takes action regarding incidents or accidents;

(d) Provides special assistance as required in matters involving reactor facilities exempt from licensing;

(e) Provides guidance and implementation direction to Regional Offices on reactor licensing, inspection, and safeguards programs assigned to the Region, and appraises Regional program performance in terms of effectiveness and uniformity;

(f) Performs other functions required for implementation of the reactor licensing, inspection, and safeguard programs; and

(g) Performs review and evaluation related to regulated facilities insurance, indemnity, and antitrust matters.

11. Section 1.46 is added to read as follows:

§ 1.46 Office of Nuclear Security and Incident Response.

The Office of Nuclear Security and Incident Response—

(a) Develops overall agency policy and provides management direction for evaluation and assessment of technical issues involving security at nuclear facilities, and is the agency safeguards and security interface with the Department of Homeland Security (DHS), the Department of Energy (DOE), other agencies; and the international activities related to the security of radioactive material and nuclear facilities;

(b) Develops, in participation with domestic and international agencies, foreign policy guidance and provides international assistance in nuclear security and safeguards;

(c) Develops emergency preparedness policies, regulations, programs, and guidelines for both currently licensed nuclear reactors and potential new nuclear reactors;

(d) Provides technical expertise regarding emergency preparedness issues and interpretations; and

(e) Develops and directs the NRC program for response to incidents, and is the agency emergency preparedness and incident response interface with the DHS, the Federal Emergency Management Agency (FEMA) and other Federal agencies.

Dated at Rockville, Maryland, this 7th day of November, 2005.
For the Nuclear Regulatory Commission.
Luis A. Reyes,
Executive Director for Operations.

[FR Doc. 05-22672 Filed 11-15-05; 8:45 am]

BILLING CODE 7590-01-P